DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: Advocacy Questionnaire.

OMB Control Number: 0625-0220.

Form Number(s): ITA-4133P.

Type of Request: Regular submission.

Burden Hours: 200.

Number of Respondents: 400.

Average Hours Per Response: 30 minutes.

Needs and Uses: The International Trade Administration's (ITA) Advocacy Center marshals Federal resources to assist U.S. firms competing for foreign government procurements worldwide. The Advocacy Center works closely with the Trade Promotion Coordination Committee, which is chaired by the Secretary of Commerce, and includes 19 Federal agencies involved in export promotion.

Advocacy assistance is wide and varied, but most often it is used to assist U.S. companies that must deal with foreign governments or government-owned entities to win or maintain business transactions in foreign markets. The Advocacy Center's goal is to ensure opportunities for American companies in the international marketplace.

The purpose of the Advocacy Questionnaire is to collect the information necessary to evaluate whether it would be appropriate to provide USG advocacy assistance on a given transaction. The Advocacy Center, appropriate ITA officials, officers/Ambassadors at U.S. Embassies/Consulates worldwide and other federal agencies that provide advocacy support to U.S. companies, request companies seeking USG advocacy support to complete the questionnaire. The information derived from a completed questionnaire is critical in helping the Advocacy Center determine whether it is in the U.S. national interest to advocate on a specific transaction.

Affected Public: Business or other for-profit organizations.

Frequency: On occasion.

Respondent's Obligation: Voluntary.

OMB Desk Officer: Wendy L. Liberante, Phone (202) 395-3647.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Wendy Liberante, OMB Desk Officer, FAX number (202) 395-5167 or via the Internet at Wendy_L._Liberante@omb.eop.gov

Dated: August 31, 2009.
Gwellnar Banks,
Management Analyst, Office of the Chief Information Officer.

[FR Doc. E9-21273 Filed 9-2-09; 8:45 am]

BILLING CODE 3510-FP-P